DEPARTMENT OF TRANSPORTATION

Federal Aviation Administration

Sixteenth Meeting: RTCA Special Committee 205/EUROCAE WG-71: Software Considerations in Aeronautical Systems

AGENCY: Federal Aviation Administration (FAA), DOT.

ACTION: Notice of RTCA Special Committee 205/EUROCAE WG-71 meeting: Software Considerations in Aeronautical Systems.

SUMMARY: The FAA is issuing this notice to advise the public of a meeting of RTCA Special Committee 205/EUROCAE WG-71: Software Considerations in Aeronautical Systems Agenda for the 16th meeting.

DATES: The meeting will be held April 11-15, 2011, from 8:30 a.m. to 5 p.m.

ADDRESSES: The meeting will be held at Enea, PO Box 1033, Skalholtsgatan 9, SE-164 21 KISTA, Sweden. Contacts: Joint Secretaries, Europe: Mr. Ross Hannan, Telephone +44 788-074-6650, e-mail: Ross_hannan@sigma-aerospace.com, US: Mrs. Leslie A. Alford, leslie.a.alford@boeing.com.

FOR FURTHER INFORMATION CONTACT: RTCA Secretariat, 1828 L Street, NW., Suite 805, Washington, DC 20036, telephone (202) 833-9339, fax (202) 833-9434, Web site http://www.rtca.org.

SUPPLEMENTARY INFORMATION: Pursuant to section 10(a)(2) of the Federal Advisory Committee Act (Pub. L. 92-463, 5 U.S.C., and Appendix 2), notice is hereby given for a Special Committee 205/EUROCAE WG-71, Software Considerations in Aeronautical Systems Agenda for the 16th meeting:

Agenda

Day 1, April 11, 2011

• Open Plenary Session.

• Chairmen's Introductory Remarks.

• Recognition of the FAA and EASA Representatives.

• Review of Meeting Agenda.

• Review and Approval of Fifteenth Meeting Summary, RTCA Paper No. 119-10/SC186-030.

• Acceptance of Documents.

• DO-178C, Software Considerations in Airborne Systems and Equipment Certification.

• DO-278A, Software Considerations for Communication, Navigation, Surveillance and Air Traffic Management (CNS/ATM) Systems.

• DO-xxx, Software Tool Qualification Considerations.

• DO-xxx, Formal Methods Supplement to DO-178C and DO-278A.

• Approve Entry into RTCA Final Review and Comment Process (FRAC).

• DO-xxx, Object-Oriented Technology Supplement to DO-178C and DO-278A.

• DO-xxx, Model-Based Development and Verification Supplement to DO-178C and DO-278A.

• Revision to DO-248B, Clarification of DO-178C and DO-278A.

Day 2, April 12, 2011

• Acceptance of Documents and Approval for Entry into FRAC—continued.

Day 3, April 13, 2011

• Acceptance of Documents and Approval for Entry into FRAC—continued.

Day 4, April 14, 2011

• Acceptance of Documents and Approval for Entry into FRAC—continued.

Day 5, April 15, 2011

• Acceptance of Documents and Approval for Entry into FRAC—continued.

• Closing Remarks.

• Adjourn Plenary.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 16, 2011.
Robert L. Bostiga,
RTCA Advisory Committee.

[FR Doc. 2011-6845 Filed 3-22-11; 8:45 am]

BILLING CODE 4910-13-P